DEPARTMENT OF TRANSPORTATION

Federal Aviation Administration

14 CFR Parts 401, 413, and 414

[Docket No.: FAA-2015-1745; Amdt. Nos 413-11 and 414-3]

RIN 2120-AK58

Electronic Applications for Licenses, Permits, and Safety Approvals

AGENCY: Federal Aviation Administration (FAA), DOT.

ACTION: Direct final rule; confirmation of effective date and response to public comments.

SUMMARY: This action confirms the effective date of the direct final rule, request for comments, published on May 27, 2015, and dispositions the one public comment received. The rule amends commercial space transportation regulations to allow an applicant for a license, experimental permit, or safety approval the option of submitting an application electronically.

DATES: The effective date of July 27, 2015, for the direct final rule published on May 27, 2015 (80 FR 30147), is confirmed.

ADDRESSES: For information on where to obtain copies of rulemaking documents and other information related to this action, see “How To Obtain Additional Information” in the SUPPLEMENTARY INFORMATION section of this document.

FOR FURTHER INFORMATION CONTACT: For technical questions concerning this action, contact Shirley McBride, Office of Commercial Space Transportation, Regulations and Analysis Division, Federal Aviation Administration, 800 Independence Avenue SW., Washington, DC 20591; telephone (202) 267-7470; email Shirley.McBride@faa.gov.

For legal questions concerning this action, contact Alex Zektser, Office of Chief Counsel, International Law, Legislation, and Regulations Division, AGC-250, Federal Aviation Administration, 800 Independence Avenue SW., Washington, DC 20591; telephone (202) 267-3073; email Alex.Zektser@faa.gov.

SUPPLEMENTARY INFORMATION:

Background

Before publication of the direct final rule on May 27, 2015 (Electronic Applications for Licenses, Permits, and Safety Approvals, 80 FR 30147), applications for a license, an experimental permit, or a safety approval made under 14 CFR part 413 or 414 had to be submitted to the FAA in paper form. The FAA determined that this paper-based submission process was unduly burdensome because an electronically-submitted application would provide the FAA with the same information as a paper application. In addition, the Government Paperwork Elimination Act (GPEA) requires that, when practicable, a federal agency must provide the public with an option to transact with the agency electronically.¹ Accordingly, the FAA published a direct final rule, request for comments, amending the application process under 14 CFR part 413 for a license or experimental permit, and under part 414 for a safety approval to allow applicants to submit their applications electronically.

¹ Office of Management and Budget, Implementation of the Government Paperwork Elimination Act, http://www.whitehouse.gov/omb/fedreg_gpea2 (explaining implementation of Pub. Law 105-277, sec. 1704).

The comment period on the direct final rule closed on June 26, 2015. Only one commenter submitted a comment document.

Discussion of Comments

The FAA only received one comment on June 3, 2015, from an individual commenter supporting the final rule. The commenter also recommended that in addition to this rulemaking, the FAA also institute a practice of providing an electronic response acknowledging receipt of the application.

Conclusion

Because there were no adverse comments submitted on this rulemaking and the only comment submitted on the rule supported the agency action, the FAA has determined that no further rulemaking action is necessary. The direct final rule is effective on July 27, 2015. The FAA will consider the additional suggestion submitted by the individual commenter separately from this rulemaking action, as the suggestion was that the FAA institute a practice in addition to the one that is the subject of this rulemaking.

Issued under authority provided by 49 U.S.C. 160(f), and 51 U.S.C. 50901-50923 in Washington, DC, on July 23, 2015.
Lirio Liu,
Director, Office of Rulemaking.

[FR Doc. 2015-18502 Filed 7-28-15; 8:45 am]

BILLING CODE 4910-13-P